SECURITIES AND EXCHANGE COMMISSION

[Release Nos. 33-10258; 34-79350; File No. 265-27]

Advisory Committee on Small and Emerging Companies

AGENCY: Securities and Exchange Commission.

ACTION: Notice of Meeting.

SUMMARY: The Securities and Exchange Commission Advisory Committee on Small and Emerging Companies is providing notice that it will hold an open, public telephone meeting on Wednesday, December 7, 2016, beginning at 11:00 a.m. ET. Members of the public may attend the meeting by listening to the audiocast accessible on the Commission's Web site at www.sec.gov. Persons needing special accommodations to access the meeting because of a disability should notify the contact person listed below. The agenda for the meeting includes a continuation of discussions started at the Committee's meeting on October 5, 2016, including outreach and board diversity. The public is invited to submit written statements to the Committee.

DATES: The public meeting will be held on Wednesday, December 7, 2016. Written statements should be received on or before Monday, December 5, 2016.

ADDRESSES: Written statements may be submitted by any of the following methods:

Electronic Statements

• Use the Commission's Internet submission form (http://www.sec.gov/info/smallbus/acsec.shtml); or

• Send an email message to rule-comments@sec.gov. Please include File Number 265-27 on the subject line; or

Paper Statements

• Send paper statements to Brent J. Fields, Federal Advisory Committee Management Officer, Securities and Exchange Commission, 100 F Street NE., Washington, DC 20549-1090.

All submissions should refer to File No. 265-27. This file number should be included on the subject line if email is used. To help us process and review your statement more efficiently, please use only one method. The Commission will post all statements on the Advisory Committee's Web site at http://www.sec.gov./info/smallbus/acsec.shtml.

Statements also will be available for Web site viewing and printing in the Commission's Public Reference Room, 100 F Street NE., Washington, DC 20549, on official business days between the hours of 10:00 a.m. and 3:00 p.m. All statements received will be posted without change; we do not edit personal identifying information from submissions. You should submit only information that you wish to make available publicly.

FOR FURTHER INFORMATION CONTACT: Julie Z. Davis, Senior Special Counsel, at (202) 551-3460, Office of Small Business Policy, Division of Corporation Finance, Securities and Exchange Commission, 100 F Street NE., Washington, DC 20549-3628.

SUPPLEMENTARY INFORMATION: In accordance with Section 10(a) of the Federal Advisory Committee Act, 5 U.S.C.—App. 1, and the regulations thereunder, Keith F. Higgins, Designated Federal Officer of the Committee, has ordered publication of this notice.

Dated: November 18, 2016.
Brent J. Fields,
Committee Management Officer.

[FR Doc. 2016-28257 Filed 11-22-16; 8:45 am]

BILLING CODE 8011-01-P